SECURITIES AND EXCHANGE COMMISSION

Sunshine Act Meeting

FEDERAL REGISTER CITATION OF PREVIOUS ANNOUNCEMENT: [77 FR 71845, December 4, 2012].

STATUS: Closed meeting.

PLACE: 100 F Street NW., Washington, DC.

DATE AND TIME OF PREVIOUSLY ANNOUNCED MEETING: December 6, 2012.

CHANGE IN THE MEETING: Deletion of Item.

The following item will not be considered during the Closed Meeting on Thursday, December 6, 2012:

Adjudicatory matter

At times, changes in Commission priorities require alterations in the scheduling of meeting items. For further information and to ascertain what, if any, matters have been added, deleted or postponed, please contact the Office of the Secretary at (202) 551-5400.

Dated: December 4, 2012.
Kevin M. O'Neill,
Deputy Secretary.

[FR Doc. 2012-29617 Filed 12-4-12; 4:15 pm]

BILLING CODE 8011-01-P